COMMISSION ON CIVIL RIGHTS

Agenda and Notice of Public Meeting and Briefing Meeting of the Vermont Advisory Committee

Notice is hereby given, pursuant to the provisions of the rules and regulations of the U.S. Commission on Civil Rights and the Federal Advisory Committee Act, that a planning meeting and briefing meeting of the Vermont Advisory Committee will convene at 11 a.m. on Tuesday, March 31, 2009, at the University of Vermont, Trinity College Campus, Farrell Hall, 210 Colchester Avenue, Burlington, Vermont. The purpose of the planning meeting is to review the draft report on racial profiling in Vermont and plan future activities. The purpose of the briefing meeting is to hear about sentencing disparities in the Vermont judicial system.

Members of the public are entitled to submit written comments. The address is U.S. Commission on Civil Rights, Eastern Regional Office, 624 Ninth Street, NW., Suite 740, Washington, DC 20425. Persons wishing to e-mail their comments, present their comments at the meeting, or who desire additional information should contact Alfreda Greene, Secretary, at 202-376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, March 11, 2009.
Christopher Byrnes,
Chief, Regional Programs Coordination Unit.

[FR Doc. E9-5658 Filed 3-13-09; 8:45 am]

BILLING CODE 6335-01-P